DEPARTMENT OF TRANSPORTATION

National Highway Traffic Safety Administration

49 CFR Part 571

[Docket No. NHTSA-2006-26299]

Federal Motor Vehicle Safety Standards; Brake Hoses

AGENCY: National Highway Traffic Safety Administration (NHTSA), Department of Transportation.

ACTION: Final rule; delay of effective date.

SUMMARY: NHTSA published a final rule in December 2004 that amended the Federal motor vehicle safety standard on brake hoses, and announced an effective date of December 20, 2006. The agency has received several petitions for reconsideration of the rule and a petition to delay the effective date of the final rule. To allow for more time to respond to petitions for reconsideration, and to give industry more time to meet new requirements, this document delays the effective date of the final rule for one year, to December 20, 2007.

This decision was made after NHTSA published a notice of proposed rulemaking on November 15, 2006, soliciting public comment on whether the effective date should be extended. All commenters wrote in support of extending the effective date.

DATES: The effective date of the final rule amending 49 CFR 571.106 published at 69 FR 76298 on December 20, 2004 is delayed until December 20, 2007. Optional early compliance continues to be permitted as of February 18, 2005. Any petitions for reconsideration of today's final rule must be received by NHTSA not later than January 29, 2007.

ADDRESSES: Petitions for reconsideration should refer to the docket number for this action and be submitted to: Administrator, National Highway Traffic Safety Administration, 400 Seventh Street, SW., Washington, DC 20590.

FOR FURTHER INFORMATION CONTACT: For technical issues you may call: Mr. Jeff Woods, Vehicle Dynamics Division, Office of Crash Avoidance Standards, at (202) 366-6206. Mr. Woods' FAX number is: (202) 366-4921.

For legal issues, you may call Ms. Dorothy Nakama, Office of the Chief Counsel, at (202) 366-2992. Her FAX number is: (202) 366-3820.

You may send mail to both of these officials at the National Highway Traffic Safety Administration, 400 Seventh Street, SW., Washington, DC 20590.

SUPPLEMENTARY INFORMATION:

Background

Federal Motor Vehicle Safety Standard No. 106, Brake hoses (49 CFR 571.106) (FMVSS No. 106), specifies labeling and performance requirements for motor vehicle brake hose, brake hose assemblies, and brake hose end fittings. The purpose of FMVSS No. 106 is to reduce deaths and injuries occurring as a result of brake system failure from pressure or vacuum loss due to hose or hose assembly rupture.

2004 Final Rule

On December 20, 2004 (69 FR 76298)(DMS Docket No. NHTSA-2003-14483), NHTSA published a final rule amending FMVSS No. 106 to update the standard and incorporate the most recent substantive technical requirements of several Society of Automotive Engineers (SAE) Recommended Practices relating to hydraulic brake hoses, vacuum brake hoses, air brake hoses, plastic air brake tubing, and end fittings. The final rule specified an effective date of December 20, 2006 for these amendments. Optional early compliance with the final rule was permitted as of February 18, 2005.

Petitions for Reconsideration

In early 2005, NHTSA received petitions for reconsideration of the December 20, 2004 final rule from Cooper Standard Automotive (Fluid Division), Degussa Corporation, George Apgar Consulting, MPC, Inc., and Parker Hannifin Corporation (with separate comments from its Brass Division and from its Hose Products Division). The petitions addressed a wide range of FMVSS No. 106 subjects.

Petition for Extension of the Effective Date

In a submission dated September 12, 2006, Legris (a division of Groupe Legris Industries) petitioned NHTSA for a delay of the December 20, 2004 final rule for an additional year, to December 20, 2007. Legris stated that it learned of the changes to FMVSS No. 106 “within the past few months” and stated that it cannot make all necessary changes to its brake hose products before the December 20, 2006 effective date. Legris asserted that without the extension, its business and customer base will be jeopardized and it will “be faced with a considerable loss of both sales revenue and profits, as well as losses from products already manufactured but which could not be installed in vehicles until after December 20, 2006.”

Notice of Proposed Extension of Effective Date

The petitions for reconsideration asked NHTSA to amend many of the December 20, 2004 final rule's provisions on brake hoses, brake hose assemblies, and end fittings. Our response to those petitions could affect the designs of certain types of brake hoses. The numerous issues raised in the petitions are complex. In some cases, the petitioners ask for changes that differ from those requested by other petitioners. The agency is in the process of developing its response to the petitions. A 12-month delay of the effective date, to December 20, 2007, would preserve the status quo until then.

On November 15, 2006 (71 FR 66480) (DMS Docket No. NHTSA-2006-26299), NHTSA published a Federal Register notice proposing to delay the effective date for one year, to December 20, 2007. NHTSA stated that if made final, the NPRM would make no substantive change to the standard, but would only delay the effective date of the December 20, 2006 final rule for another year while the agency responds to the petitions for reconsideration of the rule. Because the agency sought to provide as much lead time as possible about its final determination whether the effective date will be delayed, a 15-day comment period on the issue of the delay of the December 20, 2004 final rule's effective date was provided.

Public Comments and Final Rule

In response to the November 15, 2006 NPRM, NHTSA received comments from: the Truck Manufacturers Association; the Alliance of Automobile Manufacturers; Mr. George B. Apgar, Chairman of the Society of Automotive Engineers Fluid Conductors and Conductors Technical Committee, Nonmetallic Airbrake Tubing and Fittings Subcommittee; and from four manufacturers of air brake hoses, other brake hose products or brake system components. All commenters wrote in support of delaying the effective date of the FMVSS No. 106 final rule to December 20, 2007. One commenter wrote that it “just learned of the changes to FMVSS No. 106 within the last week.”

After considering the comments, NHTSA has decided to delay to December 20, 2007, the effective date of the December 20, 2004 final rule amending FMVSS No. 106.

This Document Takes Effect Immediately

Because December 20, 2006 (the original effective date for the FMVSS No. 106 final rule) is fast approaching, NHTSA also finds for good cause that this action delaying the effective date should take effect immediately. Today's final rule makes no substantive change to FMVSS No. 106, but delays the effective date of the December 20, 2004 final rule for one year while the agency responds to the petitions for reconsideration of the rule.

Rulemaking Analyses and Notices

A. Executive Order 12866, Regulatory Planning and Review, and DOT Regulatory Policies and Procedures

We have considered the impact of this rulemaking action under Executive Order 12866 and the Department of Transportation's regulatory policies and procedures. This rulemaking document was not reviewed under E.O. 12866, “Regulatory Planning and Review.” Further, we have determined that this action is not “significant” within the meaning of the Department of Transportation's regulatory policies and procedures (44 FR 11034; February 26, 1979).

This rule delays the effective date of a December 20, 2004 final rule amending FMVSS No. 106. There are no additional costs associated with the delay of the effective date. Since the safety benefits from the December 20, 2004 final rule cannot be quantified, and are likely minor, the impact of this extension is also minor.

B. Regulatory Flexibility Act

NHTSA has considered the impacts of this rulemaking action under the Regulatory Flexibility Act (5 U.S.C. 601 et seq.). I certify that the rule will not have a significant economic impact on a substantial number of small entities. This rule does not impose any new requirements or costs on manufacturers. It only preserves the status quo for an additional year.

C. Paperwork Reduction Act

Under the Paperwork Reduction Act of 1995 (44 U.S.C. 3501 et seq.) (PRA), a person is not required to respond to a collection of information by a Federal agency unless the collection displays a valid OMB control number. Since it only delays the effective date of a final rule, this final rule does not impose any new collection of information requirements for which a 5 CFR part 1320 clearance must be obtained.

D. National Environmental Policy Act

We have analyzed this rule for the purposes of the National Environmental Policy Act. We have determined that implementation of this action will not have any significant impact on the quality of the human environment.

E. Executive Order 13132, Federalism

This rule will not have substantial direct effects on the States, on the relationship between the national government and the States, or on the distribution of power and responsibilities among the various levels of government, as specified in Executive Order 13132.

F. Civil Justice Reform

This rule will not have any retroactive effect. A petition for reconsideration or other administrative proceedings are not required before parties may file suit in court.

G. Unfunded Mandates Reform Act

This rule will not result in costs of $100 million or more to either State, local, or tribal governments, in the aggregate, or to the private sector. Thus, this rule is not subject to the requirements of sections 202 and 205 of the Unfunded Mandates Reform Act.

Authority: 49 U.S.C. 322, 30111, 30115, 30117, and 30166; delegations of authority at 49 CFR 1.50 and 501.8.

Issued on: December 8, 2006.
Stephen R. Kratzke,
Associate Administrator for Rulemaking.

[FR Doc. E6-21207 Filed 12-12-06; 8:45 am]

BILLING CODE 4910-59-P